DEPARTMENT OF ENERGY

Federal Energy Regulatory Commission

Notice of Commission Staff Attendance

The Federal Energy Regulatory Commission (Commission) hereby gives notice that members of the Commission's staff may attend the following meeting related to the transmission planning activities of Avista Corporation, Puget Sound Energy, Inc., MATL LLP, and Bonneville Power Administration (together, ColumbiaGrid Public Utilities):

ColumbiaGrid Planning Meeting including Order No 1000 Needs Discussion February 5, 2015, 9:00 a.m.-3:00 p.m. ST).

The above-referenced meeting will be held at: ColumbiaGrid, 8338 NE Alderwood Road, Suite 140, Portland, OR 97220.

The above-referenced meeting will be via Web conference and teleconference.

The above-referenced meeting is open to stakeholders.

Further information may be found at http://www.columbiagrid.org/event-details.cfm?EventID=995&fromcalendar=1.

The discussions at the meeting described above may address matters at issue in the following proceedings:

Docket No. ER13-94, Avista Corporation.

Docket No. ER15-422, Avista Corporation.

Docket No. ER13-1730, Avista Corporation.

Docket No. ER13-99, Puget Sound Energy, Inc.

Docket No. ER15-429, Puget Sound Energy, Inc.

Docket No. ER13-1729, Puget Sound Energy, Inc.

Docket No. ER13-836, MATL LLP.

Docket No. ER14-346, MATL LLP.

Docket No. NJ13-1, Bonneville Power Administration.

Docket No. NJ13-10, Bonneville Power Administration.

For more information, contact Franklin Jackson, Office of Energy Market Regulation, Federal Energy Regulatory Commission at (202) 502-6464 or Franklin.Jackson@ferc.gov.

Dated: January 30, 2015.
Kimberly D. Bose,
Secretary.

[FR Doc. 2015-02291 Filed 2-4-15; 8:45 am]

BILLING CODE 6717-01-P